DEPARTMENT OF THE INTERIOR

National Park Service

[N6878; NPS-WASO-NAGPRA-NPS0041866; PPWOCRADN0-PCU00RP14.R50000]

Notice of Inventory Completion: California State University, Sacramento, Sacramento, CA

AGENCY: National Park Service, Interior.

ACTION: Notice.

SUMMARY: In accordance with the Native American Graves Protection and Repatriation Act (NAGPRA), the California State University, Sacramento has completed an inventory of human remains and associated funerary objects and has determined that there is a cultural affiliation between the human remains and associated funerary objects and Indian Tribes or Native Hawaiian organizations in this notice.

DATES: Repatriation of the human remains and associated funerary objects in this notice may occur on or after February 17, 2026.

ADDRESSES: Send written requests for repatriation of the human remains and associated funerary objects in this notice to Dr. Mark R. Wheeler, Senior Advisor to President Luke Wood, California State University, Sacramento, 6000 J Street Sacramento, CA 95819, email mark.wheeler@csus.edu.

SUPPLEMENTARY INFORMATION: This notice is published as part of the National Park Service's administrative responsibilities under NAGPRA. The determinations in this notice are the sole responsibility of the California State University, Sacramento, and additional information on the determinations in this notice, including the results of consultation, can be found in its inventory or related records. The National Park Service is not responsible for the determinations in this notice.

Abstract of Information Available

Human remains representing, at least, three individuals have been identified. The four associated funerary objects include one lot of modified stones, one lot of modified shells, one lot of faunal remains, and one lot of historic materials. The human remains and associated funerary objects originate from site CA-ELD-31 in western El Dorado County, CA. They were excavated by California State University, Sacramento in the 1950s and are housed at the University under accession 81-357.

Human remains representing, at least, nine individuals have been identified. The 49,445 associated funerary objects include modified stones, shells, and bones; faunal remains; floral remains; baked clay objects; quartz crystals; unmodified stones; pigments; and historical materials. The human remains and associated funerary objects originate from site CA-ELD-255 in western El Dorado County, CA. They were excavated by a California State University, Sacramento student in 1979-1980 and were returned to the University in 2015 where they are currently housed under accession 81-91.

Human remains representing, at least, two individuals have been identified. The 38,011 associated funerary objects include modified stones, bones, and shells; faunal remains; floral remains; baked clay objects; coprolites; quartz crystals; unmodified stones; pigments; and historical materials. The human remains and associated funerary objects originate from site CA-ELD-426 in western El Dorado County, CA. They were excavated by California State University, Sacramento in the 1990s and are housed at the University under accession 81-94.

Human remains representing, at least, one individual has been identified. The 299 associated funerary objects include modified stones and shells; quartz crystals; faunal remains; and historic materials. The human remains and associated funerary objects originate from site CA-ELD-1993/H in western El Dorado County, CA. They were collected by a California State University, Sacramento student in the 1970s and are housed at the University under accession 81-132.

Human remains representing, at least, one individual has been identified. The 44 associated funerary objects include modified stones and shells; unmodified stones; and faunal remains. The human remains and associated funerary objects originate from site CA-ELD-1827 in western El Dorado County, CA. They were collected by a California State University, Sacramento student in the 1970s and are housed at the University under accession 81-132.

The University is unaware of any treatment of the human remains or associated funerary objects listed above with pesticides, preservatives, or other substances that represent a potential hazard to the objects or to persons handling the objects. An unknown number of unidentified cultural items may be missing from the above collections, which may include other categories of items.

Cultural Affiliation

Based on the information available and the results of consultation, cultural affiliation is clearly identified by the information available about the human remains and associated funerary objects described in this notice.

Determinations

The California State University, Sacramento has determined that:

• The human remains described in this notice represent the physical remains of 16 individuals of Native American ancestry.

• The 87,803 objects described in this notice are reasonably believed to have been placed intentionally with or near individual human remains at the time of death or later as part of the death rite or ceremony.

• There is a connection between the human remains and associated funerary objects described in this notice and the Buena Vista Rancheria of Me-Wuk Indians of California; California Valley Miwok Tribe, California; Chicken Ranch Rancheria of Me-Wuk Indians of California; Ione Band of Miwok Indians of California; Jackson Band of Miwuk Indians; Shingle Springs Band of Miwok Indians, Shingle Springs Rancheria (Verona Tract), California; United Auburn Indian Community of the Auburn Rancheria of California; Washoe Tribe of Nevada & California (Carson Colony, Dresslerville Colony, Woodfords Community, Stewart Community, & Washoe Ranches); and the Wilton Rancheria, California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after February 17, 2026. If competing requests for repatriation are received, the California State University, Sacramento must determine the most appropriate requestor prior to repatriation. Requests for joint repatriation of the human remains and associated funerary objects are considered a single request and not competing requests. The California State University, Sacramento is responsible for sending a copy of this notice to the Indian Tribes and Native Hawaiian organizations identified in this notice and any other consulting parties.

Authority: Native American Graves Protection and Repatriation Act, 25 U.S.C. 3003, and the implementing regulations, 43 CFR 10.10.

Dated: January 9, 2026.
Melanie O'Brien,
Manager, National NAGPRA Program.

[FR Doc. 2026-00867 Filed 1-15-26; 8:45 am]

BILLING CODE 4312-52-P